DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2002 Economic Census Ownership or Control Flier.

Form Number(s): NC-99510, NC-99520, NC-99521, NC-99530, NC-99542, NC-99550, NC-99553, NC-99554, NC-99557, NC-99562, NC-99563, NC-99572, NC-99581.

Agency Approval Number: None.

Type of Request: New collection.

Burden: 48,846 hours in FY 2003.

Number of Respondents: 2,442,300.

Avg Hours Per Response: 1.2 minutes.

Needs and Uses: Accurate and reliable industry and geographic codes are critical to the Census Bureau's economic statistical programs. As single-establishment firms are acquired or begin operating at additional locations, it is necessary to update the Bureau's Business Register (Standard Statistical Establishment Listing (SSEL). During the 2002 Economic Census, the Ownership Or Control fliers will be used to link establishments that are not single-establishment firms to their parent companies or create new multi-establishment firms when they operate at more than one location. In prior censuses these questions were part of the economic census questionnaires and used to determine if single-establishment firms were either owned or controlled by another company or if they operate at more than one location. For the 2002 Economic Census we have removed these questions from economic census questionnaires and will include them on a separate flier that will only be inserted in economic census questionnaire mailout packages sent to single-establishment firms.

Affected Public: Businesses or other for-profit, individuals or households, not-for-profit institutions, State, local or Tribal government.

Frequency: Every five years.

Respondent's Obligation: Mandatory.

Legal Authority: Title 13 U.S.C., Sections 131 and 224.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: July 6, 2001.
Madeleine Clayton,
Departmental Paperwork Clearance Officer, Office of the Chief Information Officer.

[FR Doc. 01-17340 Filed 7-10-01; 8:45 am]

BILLING CODE 3510-07-P